ENVIRONMENTAL PROTECTION AGENCY

[EPA-HQ-OA-2007-0607; FRL-8542-8]

Agency Information Collection Activities; Submission to OMB for Review and Approval; Comment Request; Performance Measurement Reporting for Training and Education/Outreach; EPA ICR No. 2255.01

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before April 16, 2008.

ADDRESSES: Submit your comments, referencing Docket ID No. EPA-HQ-OA-2007-0607, to (1) EPA online using http://www.regulations.gov (our preferred method), by email to oei.docket@epa.gov, or by mail to: Office of Environmental Information (OEI) Docket, Environmental Protection Agency, Mail Code: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Brian Hanlon, Office of Grants and Debarment, Mail Code: 3903R, Environmental Protection Agency, 1200 Pennsylvania Ave., NW., Washington, DC 20460; telephone number: 202-564-2865; fax number: 202-565-2468; email address: hanlon.brian@epa.gov; or Peggy Anthony, Office of Grants and Debarment, Mail Code: 3903R, Environmental Protection Agency, 1200 Pennsylvania Ave., NW., Washington, DC 20460; telephone number: 202-564-5364; fax number: 202-565-2470, email address: anthony.peggy@epa.gov.

SUPPLEMENTARY INFORMATION: EPA has submitted the following ICR to OMB for review and approval according to the procedures prescribed in 5 CFR 1320.12. On July 20, 2007, (72 FR 39805), EPA sought comments on this ICR pursuant to 5 CFR 1320.8(d). EPA received no comments during the comment period. Any additional comments on this ICR should be submitted to EPA and OMB within 30 days of this notice.

EPA has established a public docket for this ICR under Docket ID No. EPA-HQ-OA-2007-0607, which is available for online viewing at http://www.regulations.gov, or in person viewing at the Office of Environmental Information Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Office of Environmental Information Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Performance Measurement Reporting for Training and Education/Outreach.

ICR Number: EPA ICR No. 2255.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has developed some generic reporting tools to supplement the existing performance reports submitted by assistance agreement recipients under 40 CFR Parts 30 and 31. The new reporting tools are designed to collect performance measurement information on two types of activities performed by assistance agreement recipients: training and education/outreach. Specifically, EPA has created generic questions and reporting formats that will be made available to the EPA programs and assistance agreement recipients. The tools are designed to measure the extent to which the assistance agreement recipients achieve the short-term and intermediate outcomes stated in their work plans for trainings and education/outreach. The questions and formats are flexible enough for use by any of the EPA programs.

An assistance agreement recipient would review the reporting formats and generic questions, select the format and questions that are appropriate for its needs, and assemble them into a questionnaire. The recipient would then submit its proposed questionnaire and supporting materials to EPA, which would forward them to OMB after a review for completeness and compliance. After receiving OMB approval through an expedited clearance process, the assistance agreement recipient would distribute the questionnaire and collect, tally, and report the responses to EPA. Use of the forms would not be required, but used at the discretion of the responsible program and assistance agreement recipients.

EPA has created a generic ICR that addresses the reporting tools. Upon OMB approval of the ICR, EPA program offices and their assistance agreement recipients would be able to prepare questionnaires using the tools and submit the questionnaires and supporting materials for expedited OMB approval.

Burden Statement: The annual public reporting burden for this collection of information is estimated to be six hours per assistance agreement. This includes time for preparing the questionnaire and related materials for OMB approval, and collecting, summarizing, and reporting the results to EPA. The annual public reporting burden is estimated to range from five to 10 minutes for an individual to complete a questionnaire. There is no public recordkeeping burden for this information collection. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action include assistance agreement recipients that perform training and/or education and outreach.

Estimated average annual number of assistance agreements affected: Between 480 and 720.

Estimated annual frequency of response: Quarterly or less often.

Estimated annual average number of responses for each assistance agreement: 4.

Estimated total annual respondent burden hours: 12,024 hours.

Estimated total annual respondent costs: $341,413. This includes an estimated labor cost of $341,413 and $0 for capital investment or maintenance and operational costs.

Dated: March 11, 2008.
Sara Hisel-McCoy,
Director, Collection Strategies Division.

[FR Doc. E8-5284 Filed 3-14-08; 8:45 am]

BILLING CODE 6560-50-P